DEPARTMENT OF THE INTERIOR

Bureau of Land Management

[ID-933-1430-ET; IDI-15630 et al.]

Public Land Order No. 7437; Modification and Partial Revocation of Executive Orders; Idaho

AGENCY: Bureau of Land Management, Interior.

ACTION: Correction.

SUMMARY: This action corrects Public Land Order No. 7437, 65 FR 15917-15918, published March 24, 2000.

On page 15917, second column under T. 9 S., R. 16 E., which read “Sec. 16, lots 7 to 16 inclusive.” is hereby corrected to read “Sec. 16, lots 7 to 10, and 12” and under T. 10 S., R. 18 E., which reads “Sec. 3, lot 9, and SW¼NW¼.” is hereby corrected to read “Sec. 3, lot 9, and SW¼SW¼.”

Jimmie Buxton,
Branch Chief, Lands and Minerals.

[FR Doc. 00-19326 Filed 7-31-00; 8:45 am]

BILLING CODE 4310-GG-P